DEPARTMENT OF THE INTERIOR

National Park Service

[NPS-WASO-NRNHL-DTS#-35323; PPWOCRADI0, PCU00RP14.R50000]

National Register of Historic Places; Notification of Pending Nominations and Related Actions

AGENCY: National Park Service, Interior.

ACTION: Notice.

SUMMARY: The National Park Service is soliciting electronic comments on the significance of properties nominated before February 4, 2023, for listing or related actions in the National Register of Historic Places.

DATES: Comments should be submitted electronically by March 10, 2023.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before February 4, 2023. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers

KEY: State, County, Property Name, Multiple Name (if applicable), Address/Boundary, City, Vicinity, Reference Number.

ARIZONA

Yavapai County

Schuerman Homestead House, 120 Loy Ln., Sedona vicinity, SG100008708

CALIFORNIA

Calaveras County

Chinatown Gardens Archaeological District, (Asian Americans and Pacific Islanders in California, 1850-1970 MPS), 8435 East Center St., Mokelumne Hill, MP100008712

Orange County

Fullerton College Historic District, 321 East Chapman Ave., Fullerton, SG100008709

New Lynn Theater, 154-162 South Coast Hwy., Laguna Beach, SG100008710

COLORADO

Chaffee County

Chaffee County Courthouse and Jail Buildings (Boundary Increase), 506 and 516 East Main St.; 113 and 205 North Court St., Buena Vista, BC100008735

Elbert County

First National Bank of Elizabeth, 188 South Main St., Elizabeth, SG100008713

Lake County

Golden Burro Cafe and Lounge, 710 Harrison Ave., Leadville, SG100008732

Pueblo County

St. Paul African Methodist Episcopal (AME) Church, 613 West Mesa Ave., Pueblo, SG100008733

Teller County

Crystola Bridge, (Highway Bridges in Colorado MPS), .06 mi. north of Crystola on Teller Cty. Rd. 21, Crystola vicinity, MP100008724

MICHIGAN

Berrien County

Clark Equipment Company Administrative Complex, 301-324 East Dewey St. and 204-302 North Red Bud Trail, Buchanan, SG100008725

MISSOURI

Lafayette County

Douglass School, 215 West 16th St., Higginsville, SG100008715

MONTANA

Powell County

Hillcrest Cemetery, West Milwaukee Ave., approx. .1 mi. west of Deer Lodge, Deer Lodge vicinity, SG100008723

NEW JERSEY

Mercer County

New Jersey Division of Motor Vehicles Building, 25 South Montgomery St., Trenton, SG100008729

Passaic County

Garritse-Doremus-Westervelt House, Park Dr., Clifton City, SG100008730

NEW YORK

Onondaga County

Amphion Piano Player Factory, (Industrial Resources in the City of Syracuse, Onondaga County, NY MPS), 689 North Clinton and 156 Solar Sts., Syracuse, MP100008717

St. Paul's Methodist Episcopal Church and Parsonage, 300-306 West Seneca Tpk., Syracuse, SG100008718

OHIO

Butler County

Oakland Residential Historic District, Bounded by 1st' Curtis, Woodlawn, Parkview, and Calumet Aves., Grove, Garfield, and Richmond Sts., Middletown, SG100008736

VIRGINIA

Petersburg Independent City

Walnut Hill Historic District, Roughly bounded by Johnson Rd., North, East, and South Blvds., Mount Vernon, Fleur de Hundred, and East Tuckahoe Sts., Petersburg, SG100008702

An owner objection has been received for the following resource:

NORTH DAKOTA

Grand Forks County

DeRoche Block, 624 5th Ave. North Apt 1-8 (formerly 612-626 and 624 Dakota Ave.), Grand Forks, SG100008731

A request to move has been received for the following resource:

WISCONSIN

Fond Du Lac County

Little White Schoolhouse, 1074 West Fond du Lac St., Ripon, MV73000079

Additional documentation has been received for the following resources:

COLORADO

Chaffee County

Chaffee County Courthouse and Jail Buildings (Additional Documentation), 506 and 516 East Main St.; 113 and 205 North Court St., Buena Vista, AD79000575

UTAH

Sanpete County

Neilson, N. S., House (Additional Documentation), 179 West Main St., Mt. Pleasant, AD82004160

Authority: Section 60.13 of 36 CFR part 60.

Dated: February 8, 2023.
Sherry A. Frear,
Chief, National Register of Historic Places/National Historic Landmarks Program.

[FR Doc. 2023-03701 Filed 2-22-23; 8:45 am]

BILLING CODE 4312-52-P